DEPARTMENT OF HOUSING AND URBAN DEVELOPMENT

[Docket No. FR-5828-N-30]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses:: AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland, TX 78236-9853; COAST GUARD: Commandant, United States Coast Guard, Attn: Jennifer Stomber, 2703 Martin Luther King Jr. Avenue SE., Stop 7741, Washington, DC 20593-7714; (202) 475-5609 ; ENERGY: Mr. David Steinau, Department of Energy, Office of Property Management, 1000 Independence Ave. SW., Washington, DC 20585, (202) 287-1503; INTERIOR: Mr. Michael Wright, Acquisition & Property Management, Department of the Interior, 3960 N. 56th Ave. #104, Hollywood, FL 33021; (443) 223-4639; NASA: Mr. Frank T. Bellinger, Facilities Engineering Division, National Aeronautics & Space Administration, Code JX, Washington, DC 20546, (202) 358-1124; NAVY: Mr. Steve Matteo, Department of the Navy, Asset Management; Division, Naval Facilities Engineering Command, Washington Navy Yard, 1330 Patterson Ave. SW., Suite 1000, Washington, DC 20374; (202) 685-9426 (These are not toll-free numbers).

Dated: July 16, 2015.
Brian P. Fitzmaurice,
Director, Division of Community Assistance, Office of Special Needs Assistance Programs.

TITLE V, FEDERAL SURPLUS PROPERTY PROGRAM FEDERAL REGISTER REPORT FOR 07/24/2015

Suitable/Available Properties

Building

Kentucky

ARS SEA 644500B004

Water & Air Quality Lab

230 Bennett Ln.

Bowling Green KY 42104

Landholding Agency: Agriculture

Property Number: 15201520035

Status: Excess

Directions: 98400; RPUID: 2410054320

Comments: off-site removal only; relocation difficult due to size; 1,960 sq. ft.; contact Agriculture for more information.

Michigan

MSBL 701

701 Clubhouse Rd.

Joint Base MDL MI 08733

Landholding Agency: Air Force

Property Number: 18201530001

Status: Unutilized

Comments: off-site removal; 40+ yrs. old; 460 sq. ft.; storage; 12+ mos. Vacant; deteriorated; no future agency need; contact AF for more information.

Mississippi

Modular Office, Bio Lab

141 Experiment Station Road

Stoneville MS 38776

Landholding Agency: Agriculture

Property Number: 15201530001

Status: Unutilized

Directions: ARS 640200B057 RPUID: 03.480

Comments: off-site removal; 13+ yrs. old; 960 sq. ft.; 13+ yrs. vacant; shelter; poor condition; no future Agency need; contact USDA for more information.

Pennsylvania

2 Buildings

Delaware Water Gap National Recreation Aria

Dingmans Ferry PA 18328

Landholding Agency: Interior

Property Number: 61201530001

Status: Excess

Directions: North and South Bath House

Comments: off-site removal; 45+ yrs. old; 590 sq. ft.; rest room; structures are not ADA compliant; accessibility deficiencies; reached life cycle; contact DOI for more information.

Unsuitable Properties

Building

California

Facility # 4209 Propulsion

Research Lab

793 Circle Dr.

Edwards CA 93523

Landholding Agency: Air Force

Property Number: 18201520032

Status: Unutilized

Comments: public access denied and no alternative method to gain access without compromising National Security.

Reasons: Secured Area

Golf Course Head #02623

1 Administration Circle

China Lake CA 93555

Landholding Agency: Navy

Property Number: 77201530001

Status: Excess

Comments: public access denied no alternative method to gain access without compromising National Security.

Reasons: Secured Area

Connecticut

Building 108

Naval Submarine Base New London

Groton CT 06349

Landholding Agency: Navy

Property Number: 77201520033

Status: Excess

Comments: public access denied and no alternative method to gain access without compromising National Security.

Reasons: Secured Area

Building 160

Naval Submarine Base New London

Groton CT 06349

Landholding Agency: Navy

Property Number: 77201520036

Status: Excess

Comments: public access denied no alternative method to gain access without compromising National Security.

Reasons: Secured Area

Michigan

Comms Building (OWI) 67672

6795 US 23 North

Spruce MI 48762

Landholding Agency: Coast Guard

Property Number: 88201530001

Status: Excess

Comments: public access denied no alternative method to gain access without compromising National Security.

Reasons: Secured Area

2 Buildings

1701-99 S Larson Road

Custer MI 49405

Landholding Agency: Coast Guard

Property Number: 88201530003

Status: Excess

Directions: Communications UPS Building (OW1) 68067, Communications Shed (OW2).

Comments: public access denied no alternative method to gain access without compromising National Security.

Reasons: Secured Area

Mississippi

Bldg. 8304 Test Complex Electr

Stennis Space Center

Hancock County MS 39529

Landholding Agency: NASA

Property Number: 71201530001

Status: Unutilized

Comments: public access denied and no alternative method to gain access without compromising national security.

Reasons: Secured Area

Nevada

5 Buildings & .94 Acres Land

Victoria Street

Tonopah NV 89049

Landholding Agency: Air Force

Property Number: 18201530002

Status: Excess

Directions: Fac. #80000818213; 80100818212; 80300818210; 80300818209; 80400818208

Comments: public access denied and no alternative method to gain access w/out compromising national security.

Reasons: Secured Area

New York

2 Buildings

Brookhaven National Laboratory

Upton NY 11973

Landholding Agency: Energy

Property Number: 41201520004

Status: Excess

Directions: Buildings: 580 & 528A

Comments: public access denied and no alternative method to gain access without compromising National Security.

Reasons: Secured Area

2 Buildings

Naval Submarine Base New London

Groton NY 06349

Landholding Agency: Navy

Property Number: 77201520035

Status: Excess

Directions: Buildings; 385 & 395

Comments: property located w/in floodway which has not been corrected or contained; Public access denied and no alternative method to gain access without compromising National Security.

Reasons: Secured Area; Floodway

Xmtr Hut (OWI) (68250)

Golden Hill State Park

Barker NY 14012

Landholding Agency: Coast Guard

Property Number: 88201530002

Status: Excess

Comments: public access denied no alternative method to gain access without compromising National Security.

Reasons: Secured Area

Ohio

Materials & Struct Bldg. #140

21000 Brookpark Road

Brook Park OH 44135

Landholding Agency: NASA

Property Number: 71201530002

Status: Unutilized

Comments: flammable/explosive materials are located on adjacent industrial, commercial, or Federal fac.; public access denied and no alternative method to gain access without compromising national security.

Reasons: Within 2000 ft. of flammable or explosive material; Secured Area

Texas

2 Buildings

2307 W. Maple Street #A

Port O' Connor TX 77982

Landholding Agency: Coast Guard

Property Number: 88201530004

Status: Unutilized

Directions: ATON Batt Storage & ATON Storage Building

Comments: property located within floodway which has not been correct or contained; Public access denied and no alternative method to gain access without compromising national security.

Reasons: Secured Area; Floodway

Virginia

V-065WEMA Recreational

Facility

Goddard Space Flight Center

Wallops Island VA 23337

Landholding Agency: NASA

Property Number: 71201520008

Status: Underutilized

Comments: public access denied and no alternative method to gain access without compromising national security.

Reasons: Secured Area

X-005 Fire Department Support

Bldg.-WFF

GSFC

Wallops Island VA 23337

Landholding Agency: NASA

Property Number: 71201520009

Status: Underutilized

Comments: public access denied and no alternative method to gain access without compromising national security.

Reasons: Secured Area

V-025 Inert Pay Assem and

Checkout Building

GSFC

Wallops Island VA 23337

Landholding Agency: NASA

Property Number: 71201520010

Status: Underutilized

Comments: public access denied and no alternative method to gain access without compromising national security.

Reasons: Secured Area

V-067 Rocker Motor Storage

Facility

GSFC

Wallops Island VA 23337

Landholding Agency: NASA

Property Number: 71201520011

Status: Underutilized

Comments: public access denied and no alternative method to gain access without compromising national security.

Reasons: Secured Area

E-005 Contract Office and

Storage Building

GSFC

Wallops Island VA 23337

Landholding Agency: NASA

Property Number: 71201520012

Status: Underutilized

Comments: public access denied and no alternative method to gain access without compromising national security.

Reasons: Secured Area

X-091 Fire Pump House

GSFC

Wallops Island VA 23337

Landholding Agency: NASA

Property Number: 71201520013

Status: Underutilized

Comments: property located within floodway which has not been correct or contained; Public access denied and no alternative method to gain access without compromising national security.

Reasons: Secured Area; Floodway

Z-072 Launch Central Building

- Lch Pad No#1

GSFC

Wallops Island VA 23337

Landholding Agency: NASA

Property Number: 71201520014

Status: Underutilized

Comments: property located within floodway which has not been correct or contained; Public access denied and no alternative method to gain access without compromising national security.

Reasons: Secured Area; Floodway

X-036 Storage Shed

GSFC

Wallops Island VA 23337

Landholding Agency: NASA

Property Number: 71201520015

Status: Underutilized

Comments: property located within floodway which has not been correct or contained; Public access denied and no alternative method to gain access without compromising national security.

Reasons: Secured Area; Floodway

Z-071 Movable Launch Shelter

Building

GSFC

Wallop Island VA 23337

Landholding Agency: NASA

Property Number: 71201520016

Status: Underutilized

Comments: property located within floodway which has not been correct or contained; Public access denied and no alternative method to gain access without compromising national security.

Reasons: Floodway; Secured Area

Z-065 Blockhouse #1

GSEC

Wallops Island VA 23337

Landholding Agency: NASA

Property Number: 71201520017

Status: Underutilized

Comments: property located within floodway which has not been correct or contained; Public access denied and no alternative method to gain access without compromising national security.

Reasons: Floodway; Secured Area

X-030 Paint Shop

GSFC

Wallops Island VA 23337

Landholding Agency: NASA

Property Number: 71201520018

Status: Underutilized

Comments: property located within floodway which has not been correct or contained; Public access denied and no alternative method to gain access without compromising national security.

Reasons: Floodway; Secured Area

Z-041 Multi-Function Radar

Facility

GSFC

Wallops Island VA 23337

Landholding Agency: NASA

Property Number: 71201520019

Status: Underutilized

Comments: property located within floodway which has not been correct or contained; Public access denied and no alternative method to gain access without compromising national security.

Reasons: Secured Area; Floodway

X-140 POMB Materials Storage

Building

GSFC

Wallops Island VA 23337

Landholding Agency: NASA

Property Number: 71201520020

Status: Underutilized

Comments: property located within floodway which has not been correct or contained; Public access denied and no alternative method to gain access without compromising national security.

Reasons: Secured Area; Floodway

F-006 Administration Building

null

GSFC

Wallops Island VA 23337

Landholding Agency: NASA

Property Number: 71201520022

Status: Underutilized

Comments: public access denied and no alternative method to gain access without compromising national security.

Reasons: Secured Area

H-030 Four Car Garage

GSFC

Wallops Island VA 23337

Landholding Agency: NASA

Property Number: 71201520023

Status: Underutilized

Comments: public access denied and no alternative method to gain access without compromising national security.

Reasons: Secured Area

J-017 VIC Exhibit Display Area

Building

GSFC

Wallops Island VA 23337

Landholding Agency: NASA

Property Number: 71201520024

Status: Underutilized

Comments: public access denied and no alternative method to gain access without compromising national security.

Reasons: Secured Area

F-001 reproduction Facility

GSFC

Wallops Island VA 23337

Landholding Agency: NASA

Property Number: 71201520025

Status: Underutilized

Comments: property located within an airport runway clear zone or military airfield. Public access denied and no alternative method to gain access without compromising national security.

Reasons: Secured Area; Within airport runway clear zone

J-093 VIC Concession

GSFC

Wallops Island VA 23337

Landholding Agency: NASA

Property Number: 71201520026

Status: Underutilized

Comments: public access denied and no alternative method to gain access without compromising national security.

Reasons: Secured Area

F-019 Supply Warehouse

GSFC

Wallops Island VA 23337

Landholding Agency: NASA

Property Number: 71201520027

Status: Underutilized

Comments: public access denied and no alternative method to gain access without compromising national security.

Reasons: Secured Area

N-159 Research ACFT and Observatory Science Lab

GSFC

Wallops Island VA 23337

Landholding Agency: NASA

Property Number: 71201520028

Status: Underutilized

Comments: public access denied and no alternative method to gain access without compromising national security.

Reasons: Secured Area

F-002 Telecommunications

Facility

GSFC

Wallops Island VA 23337

Landholding Agency: NASA

Property Number: 71201520029

Status: Underutilized

Comments: property located within an airport runway clear zone or military airfield. Public access denied and no alternative method to gain access without compromising national security.

Reasons: Within airport runway clear zone; Secured Area

N-161 Facilities Engineering

Range & Mission Management

GSFC

Wallops Island VA 23337

Landholding Agency: NASA

Property Number: 71201520030

Status: Underutilized

Comments: public access denied and no alternative method to gain access without compromising national security.

Reasons: Secured Area

D-012 SEW. & WASTE. DISP.

PUMP HOUSE

GSEC

Wallops Island VA 23337

Landholding Agency: NASA

Property Number: 71201520031

Status: Underutilized

Comments: public access denied and no alternative method to gain access without compromising national security.

Reasons: Secured Area

D-012A SEW, TREAT PLANT

BIOFILTER

GSFC

Wallops Island VA 23337

Landholding Agency: NASA

Property Number: 71201520033

Status: Underutilized

Comments: public access denied and no alternative method to gain access without compromising national security.

Reasons: Secured Area

E-105 Library/Fiscal

Procurement Building

GSFC

Wallops Island VA 23337

Landholding Agency: NASA

Property Number: 71201520034

Status: Underutilized

Comments: property located within floodway which has not been correct or contained. Public access denied and no alternative method to gain access without compromising national security.

Reasons: Secured Area; Floodway

B161 Logistics/Supply Facility

GSFC

Wallops Island VA 23337

Landholding Agency: NASA

Property Number: 71201520035

Status: Underutilized

Comments: public access denied and no alternative method to gain access without compromising national security.

Reasons: Secured Area

D-012C SEW, Treat Plant

Primary Sediment Tank

GSFC

Wallops Island VA 23337

Landholding Agency: NASA

Property Number: 71201520036

Status: Underutilized

Comments: public access denied and no alternative method to gain access without compromising national security.

Reasons: Secured Area

E-002 Cafeteria and Photo Lab

GSFC

Wallops Island VA 23337

Landholding Agency: NASA

Property Number: 71201520037

Status: Underutilized

Comments: property located within an airport runway clear zone or military airfield. Public access denied and no alternative method to gain access without compromising national security.

Reasons: Secured Area; Within airport runway clear zone

B16-A Gas Cylinder Storage

(old 87)

GSFC

Wallops Island VA 23337

Landholding Agency: NASA

Property Number: 71201520038

Status: Underutilized

Comments: public access denied and no alternative method to gain access without compromising national security.

Reasons: Secured Area

D-012E Sew. Treat Plant Sludge

Digestion Tank

GSFC

Wallops Island VA 23337

Landholding Agency: NASA

Property Number: 71201520039

Status: Underutilized

Comments: public access denied and no alternative method to gain access without compromising national security.

Reasons: Secured Area

E-007 ASB Records Storage/

Post Office

GSFC

Wallops Island VA 23337

Landholding Agency: NASA

Property Number: 71201520040

Status: Underutilized

Comments: property located within an airport runway clear zone or military airfield. Public access denied and no alternative method to gain access without compromising national security.

Reasons: Secured Area; Within airport runway clear zone

B16-b Ordnance (old 89)

GSFC

Wallops Island VA 23337

Landholding Agency: NASA

Property Number: 71201520041

Status: Underutilized

Comments: public access denied and no alternative method to gain access without compromising national security.

Reasons: Secured Area

D-049 Packing & Crating

Facility

GSFC

Wallops Island VA 23337

Landholding Agency: NASA

Property Number: 71201520042

Status: Underutilized

Comments: flammable explosive materials are located on adjacent industrial, comm., or federal face. Public access denied and no alternative method to gain access without compromising national security.

Reasons: Within 2000 ft. of flammable or explosive material; Secured Area

B-16-C Project Support

Facility (old Bldg. 086)

GSFC

Wallops Island VA 23337

Landholding Agency: NASA

Property Number: 71201520043

Status: Underutilized

Comments: public access denied and no alternative method to gain access without compromising national security.

Reasons: Secured Area

B-17 Administrative Support

GSFC

Wallops Island VA 23337

Landholding Agency: NASA

Property Number: 71201520044

Status: Underutilized

Comments: public access denied and no alternative method to gain access without compromising national security.

Reasons: Secured Area

D-008 Central Heating Plant

GSFC

Wallops Island VA 23337

Landholding Agency: NASA

Property Number: 71201520045

Status: Underutilized

Comments: public access denied and no alternative method to gain access without compromising national security.

Reasons: Secured Area

E-005 Contract Office and Storage Building

GSFC

Wallops Island VA 23337

Landholding Agency: NASA

Property Number: 71201520046

Status: Underutilized

Comments: public access denied and no alternative method to gain access without compromising national security.

Reasons: Secured Area

Land

Arizona

0.92 Acres

Marine Corps Air Station

Yuma AZ

Landholding Agency: Navy

Property Number: 77201530002

Status: Unutilized

Comments: public access denied and no alternative method to gain access w/out compromising national security.

Reasons: Secured Area

[FR Doc. 2015-17867 Filed 7-23-15; 8:45 am]

BILLING CODE 4210-67-P